FEDERAL COMMUNICATIONS COMMISSION

47 CFR Part 73

[DA 01-193; MM Docket No. 00-155; RM-9924]

Radio Broadcasting Services; Las Vegas and Rowe, NM

AGENCY: Federal Communications Commission.

ACTION: Proposed rule; denial.

SUMMARY: The Commission denies the request of Meadows Media, LLC, permittee of Station KTRL, Las Vegas, New Mexico, to substitute Channel 275C3 for Channel 275C2 at Las Vegas, the reallotment of Channel 275C3 to Rowe, as its first local aural service, and the modification of Station KTRL's construction permit accordingly. The Commission found that petitioner did not show that Rowe has sufficient community indicia to find that it is a community for allotment purposes. In addition, even if it were found to be a community for allotment purposes, the Commission found that the reallotment would not result in a preferential arrangement of allotments because it would result in a substantially larger number of people remaining underserved with only one fulltime reception service than would receive a first local aural service but already receive at least two fulltime aural services. See 65 FR 54192, September 15, 2000.

FOR FURTHER INFORMATION CONTACT: Leslie K. Shapiro, Mass Media Bureau, (202) 418-2180.

SUPPLEMENTARY INFORMATION: This is a synopsis of the Commission's Report and Order, MM Docket No. 00-155, adopted January 17, 2001, and released January 26, 2001. The full text of this Commission decision is available for inspection and copying during normal business hours in the FCC Reference Center (Room 239), 445 12th Street, SW, Washington, DC. The complete text of this decision may also be purchased from the Commission's copy contractor, International Transcription Services, Inc., (202) 857-3800, 1231 20th Street, NW., Washington, DC 20036.

Federal Communications Commission.
John A. Karousos,
Chief, Allocations Branch, Policy and Rules Division, Mass Media Bureau.

[FR Doc. 01-3412 Filed 2-8-01; 8:45 am]

BILLING CODE 6712-01-P